COMMISSION ON CIVIL RIGHTS

Sunshine Act Meeting Notice

AGENCY: United States Commission on Civil Rights.

ACTION: Notice of Commission Public Briefing, Civil Rights and Protections in the Federal Response to Hurricanes María and Harvey.

DATES: Friday, June 25, 2021, 12:00 p.m. ET.

ADDRESSES: Virtual Briefing and Business Meeting.

FOR FURTHER INFORMATION CONTACT: Angelia Rorison: 202-376-7700; publicaffairs@usccr.gov.

SUPPLEMENTARY INFORMATION: On Friday, June 25, 2021, at 12 p.m. Eastern Time, the U.S. Commission on Civil Rights will hold a virtual briefing on the civil rights implications of the federal response and impact of Hurricanes María in Puerto Rico and Harvey in Texas. At this public briefing, the Commissioners will hear from subject matter experts such as government officials, volunteer organizations, non-governmental advocates, and academics. The Commission will accept written materials from the public for consideration as we prepare our report; submit to FEMAbriefing@usccr.gov no later than July 26, 2021.

This briefing is open to the public via live-stream on the Commission's YouTube Page at https://www.youtube.com/user/USCCR/videos. (Streaming information subject to change.) Public participation is available for the event with view access, along with an audio option for listening. Written testimony and other materials can be found on the Commission's website here.

Computer assisted real-time transcription (CART) will be provided. The web link to access CART (in English) on Friday, June 25, 2021, is https://www.streamtext.net/player?event=USCCR. Please note that CART is text-only translation that occurs in real time during the meeting and is not an exact transcript.

To request additional accommodations, persons with disabilities should email access@usccr.gov by Monday, June 18, 2021 indicating “accommodations” in the subject line.

Briefing Agenda for Civil Rights and Protections in the Federal Response to Hurricanes María and Harvey: 12:00 p.m.-2:55 p.m. All Times Eastern Time

I. Introductory Remarks by Chair Norma V. Cantú and Commissioners Debo Adegbile and Michael Yaki: 12:00-12:07 p.m.

II. Panel 1: 12:07-1:32 p.m.

• David Bibo, Acting Assoc. Administrator, Response & Recovery, FEMA

• Tony Robinson, Region 6 Administrator, FEMA

• Glenn Sklar, Principal Deputy Inspector General, DHS OIG

• Stephen Begg, Deputy Inspector General, HUD OIG

• Chris Currie, Director, Homeland Security & Justice, USGAO

• Tevi Troy, Author, BPC Senior Fellow, & Former HHS Deputy Secretary

• Jo Linda Johnson, Director, Office of Equal Rights, FEMA

III. Break: 1:32-1:42 p.m.

IV. Panel 2: 1:42-2:48 p.m.

• Kira Romero-Craft, Director of the Southeast Region for LatinoJustice PRLDEF, LatinoJustice

• Andrés Gallegos, Chairman, National Council on Disability

• Nicole Roy, Project Coordinator, Salvation Army

• Charley Willison, Postdoctoral Fellow, Harvard Medical School

V. Closing Remarks by Chair Norma V. Cantú: 2:48-2:55 p.m.

VI. Adjourn Meeting.

** Public Comments will be accepted through written testimony only.

* Schedule is subject to change.

Call for Public Comments

In addition to the testimony collected on Friday, June 25, 2021, via virtual briefing, the Commission welcomes the submission of material for consideration as we prepare our report. Please submit such information to FEMAbriefing@usccr.gov no later than July 26, 2021, or by mail to OCRE/Public Comments, ATTN: FEMA Briefing, U.S. Commission on Civil Rights, 1331 Pennsylvania Ave. NW, Suite 1150, Washington, DC 20425. The Commission encourages the use of email to provide public comments due to the current COVID-19 pandemic.

Dated: June 21, 2021.
Angelia Rorison,
Media and Communications Director, U.S. Commission on Civil Rights.

[FR Doc. 2021-13500 Filed 6-21-21; 4:15 pm]

BILLING CODE 6335-01-P